DEPARTMENT OF DEFENSE

Department of the Air Force

Record of Decision for the Environmental Impact Statement for the F-15 Beddown and Infrastructure Upgrades at Andersen Air Force Base, Guam

AGENCY: Department of the Air Force, Department of Defense.

ACTION: Notice of availability.

SUMMARY: On July 16, 2025, the Department of the Air Force (DAF) signed the Record of Decision (ROD) for the F-15 Beddown and Infrastructure Upgrades at Andersen Air Force Base (AFB), Guam Environmental Impact Statement.

ADDRESSES: Mr. David Martin (AFCEC/CIEE), 2261 Hughes Avenue, STE 155, JBSA Lackland, TX 78236-9853, (210) 395-1656; david.martin.127@us.af.mil.

SUPPLEMENTARY INFORMATION: The DAF has decided to construct new infrastructure including a new aircraft parking apron and associated buildings and utilities on the northwest side of the existing runway at Andersen AFB, Guam. The DAF will not implement or carry forward the beddown of up to 12 Republic of Singapore Air Force (RSAF) F-15 aircraft nor associated aircraft airfield operations, to include temporary support aircraft, and RSAF personnel or their families and no periodic temporary increases in associated support personnel will be required at Andersen AFB.

The DAF decision documented in the ROD was based on matters discussed in the Final Environmental Impact Statement, input from the public and regulatory agencies, and other relevant factors. The Final Environmental Impact Statement was made available to the public on April 25, 2025 through a Notice of Availability in the Federal Register Vol. 90, No. 79, EIS Number 20250046, page 17431, with a 30-day wait period that ended on May 27, 2025.

Authority: This Notice of Availability is published pursuant to the National Environmental Policy Act (NEPA) (42 U.S.C. 4321, et seq.) and the Department of Defense NEPA Implementing Procedures.

Tommy W. Lee,
Acting Air Force Federal Register Liaison Officer.

[FR Doc. 2025-15658 Filed 8-15-25; 8:45 am]

BILLING CODE 3911-44-P